DEPARTMENT OF THE TREASURY

Submission for OMB Review; Comment Request

August 24, 2009.

The Department of Treasury will submit the following public information collection requirement(s) to OMB for review and clearance under the Paperwork Reduction Act of 1995, Public Law 104-13 on or after the publication date of this notice. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before September 30, 2009 to be assured of consideration.

Office of Financial Stability (OFS)

OMB Number: 1505-0212.

Type of Review: Extension.

Title: Use of TARP Funds and Compliance with Executive Compensation Issues.

Description: The Emergency Economic Stabilization Act of 2008 (“Act”), Public Law 110-343, established the Troubled Asset Relief Program (“TARP”) and created the Office of the Special Inspector General for the Troubled Asset Relief Program (“SIGTARP”). SIGTARP is responsible for coordinating and conducting audits and investigations of any program established by the Secretary of the Treasury under the Act. One of SIGTARP's primary areas of focus has been ensuring, to the fullest extent possible, transparency in the operation of TARP. Increasingly, members of the Congress, the press, and the public are expressing frustration and raising questions about: (1) The lack of information about how TARP recipients are using or plan to use funding provided by the Federal government under the various TARP programs; and (2) insufficient transparency regarding efforts to restrain excessive executive compensation. The questionnaire is designed to address these questions.

Respondents: Businesses and other for-profit institutions.

Estimated Total Reporting Burden: 200 hours.

Clearance Officer: Suzanne Tosini, (202) 927-9627, 1801 L St, NW., Room 8219, Washington, DC 20036.

OMB Reviewer: OIRA Desk Officer, Office of Management and Budget, Room 10235, New Executive Office Building, Washington, DC 20503. oira_submission@omb.eop.gov.

Robert Dahl,
Treasury PRA Clearance Officer.

[FR Doc. E9-20902 Filed 8-28-09; 8:45 am]

BILLING CODE 4810-25-P